FEDERAL COMMUNICATIONS COMMISSION

47 CFR Parts 20 and 22

[WT Docket No. 01-14; FCC 01-328]

2000 Biennial Regulatory Review—Spectrum Aggregation Limits For Commercial Mobile Radio Services; Correction

AGENCY: Federal Communications Commission.

ACTION: Final rule; correction.

SUMMARY: The Federal Communications Commission published in the Federal Register of January 14, 2002, a document concerning the 2000 biennial review of the Commercial Mobile Radio Service (CMRS) spectrum aggregation limit, or “spectrum cap,” and cellular cross-interest rules. Inadvertently amendatory instruction no. 2 to 47 CFR 22.942 contained an error. This document corrects that instruction.

DATES: Effective February 13, 2002.

FOR FURTHER INFORMATION CONTACT: Lauren Kravetz Patrich or John Branscome, Commercial Wireless Division, Wireless Telecommunications Bureau, at (202) 418-0620.

SUPPLEMENTARY INFORMATION: The Federal Communications Commission published a document in the Federal Register of January 14, 2002, (67 FR 1626). This correction revises amendatory instruction no. 2 to 47 CFR 22.942. In FR Doc. 02-868, published in the Federal Register of January 14, 2002 (67 FR 1626) make the following correction. On page 1642, in the third column, correct amendatory instruction no. 2 to read as follows:

§ 22.942 [Corrected]

2. Section 22.942 is amended by revising the section heading and paragraphs (a) and (c) to read as follows:

* * * * *

Dated: January 24, 2002.
Federal Communications Commission.
William F. Caton,
Deputy Secretary.

[FR Doc. 02-2363 Filed 1-30-02; 8:45 am]

BILLING CODE 6712-01-P